FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 011730-003.

Title: GWF/Dole Space Charter and Sailing Agreement.

Parties: Dole Ocean Cargo Express, Inc. and Great White Fleet (US) Ltd.

Filing Party: Wade S. Hooker, Esq., 211 Central Park West, New York, NY 10024.

Synopsis: The amendment adds Colombia to the geographic scope of the agreement. The parties have requested expedited review.

Agreement No.: 011914-003.

Title: HLAG/CCNI Med-Gulf Space Charter Agreement.

Parties: Hapag-Lloyd AG and Compania Chilena de Navegacion Interoceanica.

Filing Party: Wayne R. Rohde, Esq.; Sher & Blackwell LLP; 1850 M Street, NW., Suite 900, Washington, DC 20036.

Synopsis: The amendment would expand the scope to include all countries bordering the Mediterranean Sea, adjust the amount of space chartered to CCNI, and provide future adjustments to the slot allocation within defined limits.

Agreement No.: 012032-004.

Title: CMA CGM/MSC/Maersk Line North and Central China-US Pacific Coast Two-Loop Space Charter, Sailing and Cooperative Working Agreement.

Parties: A.P. Moller-Maersk A/S, CMA CGM S.A., and Mediterranean Shipping Company S.A.

Filing Party: Wayne R. Rohde, Esq.; Sher and Blackwell LLP; 1850 M Street, NW., Suite 900; Washington, DC 20036.

Synopsis: The amendment reflects the addition of a sixth vessel to a service loop, and makes adjustments to the space allocations among the parties.

By Order of the Federal Maritime Commission.
Dated: March 5, 2010.
Rachel E. Dickon,
Assistant Secretary.

[FR Doc. 2010-5104 Filed 3-9-10; 8:45 am]

BILLING CODE 6730-01-P